OFFICE OF PERSONNEL MANAGEMENT

Federal Employees' Retirement System; Normal Cost Percentages

AGENCY: Office of Personnel Management.

ACTION: Notice.

SUMMARY: The Office of Personnel Management (OPM) is providing notice of revised normal cost percentages for employees covered by the Federal Employees' Retirement System (FERS) Act of 1986.

DATES: The revised normal cost percentages are effective at the beginning of the first pay period commencing on or after October 1, 2004.

Agency appeals of the normal cost percentages must be filed no later than March 24, 2004.

ADDRESSES: Send or deliver agency appeals of the normal cost percentages to the Board of Actuaries, care of Nancy H. Kichak, Deputy Associate Director, Center for Workforce Planning and Policy Analysis, Office of Personnel Management, Room 4307, 1900 E Street NW., Washington, DC 20415.

Send requests for actuarial assumptions and data to the Actuaries Group, Office of Personnel Management, Room 4307, 1900 E Street NW., Washington, DC 20415.

FOR FURTHER INFORMATION CONTACT: Patrick Jennings, (202) 606-0299.

SUPPLEMENTARY INFORMATION: The FERS Act of 1986, Pub. L. 99-335, created a new retirement system intended to cover most Federal employees hired after 1983. Most Federal employees hired before 1984 are under the older Civil Service Retirement System (CSRS). Section 8423 of title 5, United States Code, as added by the FERS Act of 1986, provides for the payment of the Government's share of the cost of the retirement system under FERS. Employees' contributions are established by law and constitute only a small fraction of the cost of funding the retirement system; employing agencies are required to pay the remaining costs. The amount of funding required, known as “normal cost,” is the entry age normal cost of the provisions of FERS that relate to the Civil Service Retirement and Disability Fund (Fund). The normal cost must be computed by OPM in accordance with generally accepted actuarial practices and standards (using dynamic assumptions). Subpart D of part 841 of title 5, Code of Federal Regulations, regulates how normal costs are determined.

Recently, the Board of Actuaries of the Civil Service Retirement System approved a revised set of economic assumptions for use in the dynamic actuarial valuations of FERS. These assumptions were adopted after the Board reviewed statistical data prepared by the OPM actuaries and considered trends that may affect future experience under the System.

Based on its analysis, the Board concluded that it would be appropriate to assume a rate of investment return of 6.25 percent, a reduction of .50 percent from the current rate of 6.75 percent. The Board reduced the anticipated inflation rate from 3.75 percent to 3.25 percent, and reduced the projected rate of General Schedule salary increases from 4.25 percent to 4.00 percent. These salary increases are in addition to assumed in-grade increases that reflect past experience.

The new assumptions anticipate that over the long term the annual rate of investment return will exceed inflation by 3 percent and General Schedule salary increases will exceed inflation by .75 percent a year, as compared to 3 percent and .50 percent, respectively, under the previous assumptions. In addition, due to a considerable decline in the rate of early retirements, the Board reduced its demographic assumption of the anticipated rate of early retirements.

The normal cost calculations depend on both the economic and demographic assumptions. The demographic assumptions are determined separately for each of a number of special groups, in cases where separate experience data is available. Based on the new economic assumptions and the change in the demographic assumption concerning the rate of early retirements, OPM has determined the normal cost percentage for each category of employees under § 841.403 of Title 5, Code of Federal Regulations. The Governmentwide normal cost percentages, including the employee contributions, are as follows:

| Percent
Members | 17.7
Congressional employees | 17.9
Law enforcement officers, members of the Supreme Court Police, firefighters, nuclear materials couriers and employees under section 302 of the Central Intelligence Agency Act of 1964 for Certain Employees | 25.1
Air traffic controllers | 24.4
Military reserve technicians | 14.7
Employees under section 303 of the Central Intelligence Agency Act of 1964 for Certain Employees (when serving abroad) | 17.2
All other employees | 12.0

Under §841.408 of title 5, Code of Federal Regulations, these normal cost percentages are effective at the beginning of the first pay period commencing on or after October 1, 2004.

The time limit and address for filing agency appeals under § § 841.409 through 841.412 of title 5, Code of Federal Regulations, are stated in the DATES and ADDRESSES sections of this notice.

Office of Personnel Management.
Kay Coles James,
Director.

[FR Doc. 03-24048 Filed 9-23-03; 8:45 am]

BILLING CODE 6325-50-P